DEPARTMENT OF TRANSPORTATION

Federal Aviation Administration

14 CFR Part 97

[Docket No. 30451; Amdt. No. 3127]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective July 26, 2005. The compliance date for each SIAP and/or Weather Takeoff Minimums is specified in the amendatory provisions.

The incorporation by reference of certain publications listed in the regulations is approved by the Director of the Federal Register as of July 26, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on July 15, 2005.
James J. Ballough,
Director, Flight Standards Service.

Adoption of the Amendment

Accordingly, pursuant to the authority delegated to me, under title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 1 September 2005

Andalusia/Opp, AL, Andalusia-Opp, RNAV (GPS) RWY 29, Amdt 1

Auburn, AL, Auburn-Opelika Robert G. Pitts, RNAV (GPS) RWY 11, Orig

Auburn, AL, Auburn-Opelika Robert G. Pitts, RNAV (GPS) RWY 18, Orig

Auburn, AL, Auburn-Opelika Robert G. Pitts, RNAV (GPS) RWY 29, Orig

Auburn, AL, Auburn-Opelika Robert G. Pitts, RNAV (GPS) RWY 36, Orig

Auburn, AL, Auburn-Opelika Robert G. Pitts, VOR/DME-A, Amdt 7

Auburn, AL, Auburn-Opelika Robert G. Pitts, LOC RWY 36, Amdt 3

Auburn, AL, Auburn-Opelika Robert G. Pitts, VOR RWY 29, Amdt 10

Auburn, AL, Auburn-Opelika Robert G. Pitts, GPS RWY 28, Orig, CANCELLED

Auburn, AL, Auburn-Opelika Robert G. Pitts, NDB RWY 36, Orig-A, CANCELLED

Auburn, AL, Auburn-Opelika Robert G. Pitts, VOR/DME RNAV OR GPS RWY 36, Amdt 3A, CANCELLED

Auburn, AL, Auburn-Opelika Robert G. Pitts, Takeoff Minimums and Textual DP, Amdt 1, CANCELLED

Chalkyitsik, AK, Chalkyitsik, RNAV (GPS) RWY 3, Orig

Chalkyitsik, AK, Chalkyitsik, RNAV (GPS) RWY 21, Orig

Kaltag, AK, Kaltag, RNAV (GPS) RWY 21, Orig

Kaltag, AK, Kaltag, Takeoff Minimums and Textual DP, Orig

Kiana, AK, Bob Baker Memorial, RNAV (GPS) RWY 6, Orig

Kiana, AK, Bob Baker Memorial, RNAV (GPS) RWY 24, Orig

Kiana, AK, Bob Baker Memorial, Takeoff Minimums and Textual (DP), Orig

Chino, CA, Chino, ILS OR LOC RWY 26R, Amdt 7

Chino, CA, Chino, RNAV (GPS) RWY 26R, Orig

Fresno, CA, Fresno Yosemite International, VOR/DME OR TACAN RWY 11L, Amdt 1

Fresno, CA, Fresno Yosemite International, VOR/DME OR TACAN RWY 29R, Amdt 1

Fresno, CA, Fresno Yosemite International, NDB RWY 29R, Amdt 24, CANCELLED

Fresno, CA, Fresno Yosemite International, LOC RWY 11L, Amdt 1

Fresno, CA, Fresno Yosemite International, ILS OR LOC/DME RWY 29R, Amdt 36, ILS RWY 29R (CAT II), ILS RWY 29R (CAT III), Amdt 36

Fresno, CA, Fresno Yosemite International, RNAV (GPS) RWY 11L, Orig

Fresno, CA, Fresno Yosemite International, RNAV (GPS) RWY 11R, Orig

Fresno, CA, Fresno Yosemite International, RNAV (GPS) RWY 29L, Orig

Fresno, CA, Fresno Yosemite International, RNAV (GPS) RWY 29R, Orig

Fresno, CA, Fresno Yosemite International, GPS RWY 11L, Orig-A, CANCELLED

Fresno, CA, Fresno Yosemite International, GPS RWY 29R, Orig-A, CANCELLED

Fresno, CA, Fresno Yosemite International, Takeoff Minimums and Textual DP, Amdt 6

Washington, DC, Ronald Reagan Washington National, RNAV (GPS) RWY 33, Orig

Washington, DC, Ronald Reagan Washington National, VOR/DME RNAV or GPS RWY 33, Amdt 5C, CANCELLED

Fort Myers, FL, Southwest Florida Intl, RNAV (GPS) RWY 6, Amdt 1

Fort Myers, FL, Southwest Florida Intl, RNAV (GPS) RWY 24, Amdt 1

Savannah, GA, Savannah/Hilton Head Intl, ILS OR LOC RWY 9, Amdt 27

Savannah, GA, Savannah/Hilton Head Intl, RNAV (GPS) RWY 9, Amdt 1

Savannah, GA, Savannah/Hilton Head Intl, RNAV (GPS) RWY 18, Amdt 1

Savannah, GA, Savannah/Hilton Head Intl, RNAV (GPS) RWY 27, Amdt 1

Savannah, GA, Savannah/Hilton Head Intl, RNAV (GPS) RWY 36, Amdt 1

Hana, HI, Hana, RNAV (GPS) RWY 26, Orig

Hana, HI, Hana, Takeoff Minimums and Textual DP, Orig

Oskaloosa, IA, Oskaloosa Muni, RNAV (GPS) RWY 13, Orig

Oskaloosa, IA, Oskaloosa Muni, RNAV (GPS) RWY 31, Orig

Oskaloosa, IA, Oskaloosa Muni, NDB RWY 22, Amdt 3

Oskaloosa, IA, Oskaloosa Muni, VOR/DME RWY 31, Amdt 3

Escanaba, MI, Delta County, ILS OR LOC RWY 9, Amdt 2

Benson, MN, Benson Muni, RNAV (GPS) RWY 14, Orig

Benson, MN, Benson Muni, RNAV (GPS) RWY 32, Orig

Benson, MN, Benson Muni, Takeoff Minimums And Textual DP, Orig

Washington, MO, Washington Memorial, RNAV (GPS) RWY 15, Orig

Washington, MO, Washington Memorial, RNAV (GPS) RWY 33, Orig

Washington, MO, Washington Memorial, VOR-A, Orig

Columbus, NE, Columbus Muni, RNAV (GPS) RWY 14, Orig

Columbus, NE, Columbus Muni, RNAV (GPS) RWY 32, Orig

Columbus, NE, Columbus Muni, GPS RWY 14, ORIG-B, CANCELLED

Columbus, NE, Columbus Muni, LOC RWY 14, Amdt 7

Columbus, NE, Columbus Muni, VOR/DME RWY 32, Amdt 3

Columbus, NE, Columbus Muni, VOR RWY 32, Amdt 14

Columbus, NE, Columbus Muni, Takeoff Minimums and Textual Departure Procedure, Amdt 5

McCook, NE, McCook Muni, RNAV (GPS) RWY 12, Orig

McCook, NE, McCook Muni, RNAV (GPS) RWY 30, Orig

McCook, NE, McCook Muni, GPS RWY 12, Orig-B, CANCELLED

Norfolk, NE, Karl Stefan Memorial, ILS OR LOC RWY 1, Amdt 5

Omaha, NE, Eppley Field, RNAV (GPS) RWY 14R, Amdt 1

Omaha, NE, Eppley Field, RNAV (GPS) RWY 18, Amdt 1

Omaha, NE, Eppley Field, RNAV (GPS) RWY 32L, Amdt 1

Omaha, NE, Eppley Field, RNAV (GPS) RWY 36, Amdt 1

Claremont, NH, Claremont Muni, Takeoff Minimums and Textual DP, Amdt 2

Reno, NV, Reno/Stead, RNAV (GPS) RWY 32, Orig

Syracuse, NY, Syracuse Hancock Intl, ILS OR LOC RWY 10, Amdt 11

Syracuse, NY, Syracuse Hancock Intl, RNAV (GPS) RWY 10, Amdt 1

Syracuse, NY, Syracuse Hancock Intl, RNAV (GPS) RWY 15, Amdt 1

Syracuse, NY, Syracuse Hancock Intl, RNAV (GPS) RWY 28, Amdt 1

Syracuse, NY, Syracuse Hancock Intl, RNAV (GPS) RWY 33, Amdt 1

Syracuse, NY, Syracuse Hancock Intl, RNAV (GPS) Y RWY 10, Orig, CANCELLED

Syracuse, NY, Syracuse Hancock Intl, RNAV (GPS) Y RWY 15, Orig, CANCELLED

Aurora, OR, Aurora State, RNAV (GPS)-B, Orig

Aurora, OR, Aurora State, RNAV (GPS) RWY 17, Orig

Aurora, OR, Aurora State, RNAV (GPS) RWY 35, Orig

Aurora, OR, Aurora State, VOR/DME-A, Amdt 3

Aurora, OR, Aurora State, GPS RWY 17, Amdt 1A, CANCELLED

Aurora, OR, Aurora State, GPS RWY 35, Amdt 1B, CANCELLED

Aurora, OR, Aurora State, LOC RWY 17, Amdt 1

Aurora, OR, Aurora State, Takeoff Minimums and Textual DP, Amdt 2

Eugene, OR, Mahlon Sweet Field, RNAV (GPS) RWY 16L, Orig

Hazleton, PA, Hazleton Muni, RNAV (GPS) RWY 10, Orig

Greer, SC, Greenville-Spartanburg Intl-Roger Milliken, RADAR 1, Amdt 6

Charleston, SC, Charleston AFB/Intl, RNAV (GPS) RWY 3, Amdt 1

Charleston, SC, Charleston AFB/Intl, RNAV (GPS) RWY 15, Amdt 1

Charleston, SC, Charleston AFB/Intl, RNAV (GPS) RWY 21, Amdt 1

Charleston, SC, Charleston AFB/Intl, RNAV (GPS) RWY 33, Amdt 1

Columbia, SC, Columbia Metropolitan, RNAV (GPS) RWY 23, Amdt 1

Columbia, SC, Columbia Metropolitan, RNAV (GPS) RWY 5, Amdt 1

Alice, TX, Alice Intl, RNAV (GPS) RWY 31, Amdt 1

San Angelo, TX, San Angelo Regional/Mathis Field, RNAV (GPS) RWY 3, Amdt 1

San Angelo, TX, San Angelo Regional/Mathis Field, RNAV (GPS) RWY 21, Amdt 1

Logan, UT, Logan-Cache, RNAV (GPS) RWY 35, Amdt 1

Logan, UT, Logan-Cache, RNAV (GPS) RWY 17, Orig

Logan, UT, Logan-Cache, Takeoff Minimums And Textual DP, Amdt 7

Salt Lake City, UT, Salt Lake City Intl, ILS OR LOC RWY 16L, Amdt 2, ILS RWY 16L (CAT II), ILS RWY 16L (CAT III)

Salt Lake City, UT, Salt Lake City Intl, ILS OR LOC RWY 16R, Amdt 2, ILS RWY 16R (CAT II), ILS RWY 16R (CAT III)

Salt Lake City, UT, Salt Lake City Intl, ILS OR LOC RWY 34R, Amdt 2, ILS RWY 34R (CAT II), ILS RWY 34R (CAT III)

Salt Lake City, UT, Salt Lake City Intl, ILS OR LOC RWY 34L, Amdt 1, ILS RWY 34L (CAT II), ILS RWY 34L (CAT III)

Blacksburg, VA, Virginia Tech/Montgomery Executive, RNAV (GPS) RWY 12, Orig

Blacksburg, VA, Virginia Tech/Montgomery Executive, GPS RWY 12, Orig, CANCELLED

Dublin, VA, New River Valley, RNAV (GPS) RWY 24, Orig

Dublin, VA, New River Valley, GPS RWY 24, Orig, CANCELLED

Friday Harbor, WA, Friday Harbor, RNAV (GPS) RWY 34, Amdt 1

Gillette, WY, Gillette-Campbell County, RNAV (GPS) RWY 34, Orig

Gillette, WY, Gillette-Campbell County, RNAV (GPS) RWY 16, Orig

Gillette, WY, Gillette-Campbell County, VOR RWY 16, Amdt 7

Gillette, WY, Gillette-Campbell County, VOR/DME RWY 34, Amdt 1

Gillette, WY, Gillette-Campbell County, ILS OR LOC RWY 34, Amdt 3

Gillette, WY, Gillette-Campbell County, Takeoff Minimums And Textual DP, Amdt 3

[FR Doc. 05-14587 Filed 7-25-05; 8:45 am]

BILLING CODE 4910-13-P